DEPARTMENT OF TRANSPORTATION

Federal Aviation Administration

Third Meeting—RTCA Special Committee 217/EUROCAE WG 44—Airport Mapping Databases

AGENCY: Federal Aviation Administration (FAA), DOT.

ACTION: Notice of RTCA Special Committee 217 meeting: Airport Mapping Databases.

SUMMARY: The FAA is issuing this notice to advise the public of a meeting of RTCA Special Committee 217 meeting: Airport Mapping Databases

DATES: The meeting will be held on May 18-20, 2009, from 9 a.m. to 5 p.m.

ADDRESSES: The meeting will be held at AENA, Spanish Air Navigation Service Provide, Juan Ignacio Luca de Tena 14, Madrid, Spain, Contact: Javier Fenoll, Tel : (34) 91 321 54 61, Fax : (34) 91 321 31 57, Internet: jfenoll@e-externas.aena.es.

FOR FURTHER INFORMATION CONTACT: RTCA Secretariat, 1828 L Street, NW., Suite 805, Washington, DC, 20036-5133; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 217 meeting. The agenda will include:

18 May

Opening Plenary (Chairmen's remarks and introductions, Review and approve meeting agenda)

Discussion

• Schedule for this week

• Schedule for next meetings

• Action Items

Presentations

• Taxi Graphic Demonstrations—Brian Gilbert

• AENA Activities on eTOD—Javier Fenoll

Terrain, Obstacle, and Airport Mapping discussions

• Discussion on AMDB and ICAO Recommendations

19 May

Terrain, Obstacle, and Airport Mapping discussions

Address Outcome from “Roadmap Items” (outcome from assigned actions)

20 May

Terrain, Obstacle, and Airport Mapping discussions

Plenary Session

• Other Business

• Determine and agree on action plan

• Meeting Plans and Dates.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 18, 2009.
Francisco Estrada C.,
RTCA Advisory Committee.

[FR Doc. E9-6459 Filed 3-23-09; 8:45 am]

BILLING CODE 4910-13-P